DEPARTMENT OF THE INTERIOR

Office of the Secretary

Sunshine Act Meeting

TIME AND DATE: 9 a.m. to 5 p.m. EST, December 5, 2001.

PLACE: Main Auditorium, National Geographic Society, 1145 17th Street, NW., Washington, DC.

STATUS: The Department of the Interior, as co-chair with the Department of Commerce, on behalf of the Coral Reef Task Force announces a public meeting of the Coral Reef Task Force. We will accept comments on the discussion documents until November 30, 2001.

MATTERS TO BE CONSIDERED: Agenda and Discussion Documents. Documents to be discussed include a Final Charter and Final Oversight Policy. These documents and the agenda are available from Susan White at (202) 208-6211, or on the web at http://coralreef.gov/ . Public comments were previously solicited on the draft Oversight document from November 26, 1999 to January 3, 2000.

CONTACT PERSON FOR MORE INFORMATION: Comments regarding these matters should be sent to Susan White, Office of the Assistant Secretary for Fish and Wildlife and Parks, Department of the Interior, 1849 “C” Street, NW, MS-MIB-3156, Washington, DC 20240, phone (202) 208-6211, FAX (202) 208-4684, email: susan_white@fws.gov.

Dated: November 2, 2001.
Joseph E. Doddridge,
Acting Assistant Secretary for Fish and Wildlife and Parks.

[FR Doc. 01-28728 Filed 11-13-01; 11:45 am]

BILLING CODE 4310-55-P